INTERNATIONAL TRADE COMMISSION

[Investigation No. 337-TA-1318 (Modification (III) and Rescission (II))]

Certain Graphics Systems, Components Thereof, and Digital Televisions Containing the Same; Notice of Commission Determination To Institute Modification and Rescission Proceedings and To Grant a Joint Motion for Limited Service of Confidential Exhibits; Modification of Limited Exclusion Order and Rescission of Cease and Desist Orders; Termination of Modification and Rescission Proceedings

AGENCY: International Trade Commission.

ACTION: Notice.

SUMMARY: Notice is hereby given that the U.S. International Trade Commission has determined to institute modification and rescission proceedings based on a second corrected joint petition to modify a limited exclusion order (“LEO”) and rescind in full cease and desist orders (“CDOs”) issued in the underlying investigation based on a settlement agreement and grant petitioners' motion for limited service of confidential exhibits. The LEO is modified and the CDOs are rescinded. The modification and rescission proceedings are terminated.

FOR FURTHER INFORMATION CONTACT: Richard P. Hadorn, Esq., Office of the General Counsel, U.S. International Trade Commission, 500 E Street SW, Washington, DC 20436, telephone (202) 205-3179. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on June 7, 2022, based on a complaint filed by Advanced Micro Devices, Inc. of Santa Clara, California and ATI Technologies ULC of Ontario, Canada (together, “AMD”). 87 FR 34718-19 (June 7, 2022). The complaint, as supplemented, alleges violations of section 337 of the Tariff Act of 1930, as amended, 19 U.S.C. 1337 (“section 337”), based on certain graphics systems, components thereof, and digital televisions containing the same by reason of infringement of certain claims of U.S. Patent Nos. 7,742,053; 8,760,454; 11,184,628; 8,468,547; and 8,854,381 (“the '381 patent”). Id. at 34718. The complaint further alleges that a domestic industry exists. Id. The notice of institution named 14 respondents: (1) TCL Industries Holdings Co., Ltd. of Guangdong, China; (2) TCL Industries Holdings (H.K.) Co. Limited of Hong Kong, China; (3) TCL Electronics Holdings Ltd. f/k/a TCL Multimedia Technology Holdings, Ltd. of Hong Kong, China; (4) TCL Technology Group Corporation of Guangdong, China; (5) TTE Corporation of Hong Kong, China; (6) TCL Holdings (BVI) Ltd. of Hong Kong, China; (7) TCL King Electrical Appliances (Huizhou) Co. Ltd. of Guangdong, China; (8) Shenzhen TCL New Technology Co., Ltd. of Guangdong, China; (9) TCL MOKA International Ltd. of Hong Kong, China; (10) TCL Smart Device (Vietnam) Co., Ltd. of Binh Duong Province, Vietnam; (11) Manufacturas Avanzadas SA de CV of Chihuahua, Mexico; (12) TCL Electronics Mexico, S de RL de CV of Benito Juarez, Mexico; (13) TCL Overseas Marketing Ltd. of Hong Kong, China; and (14) Realtek Semiconductor Corporation (“Realtek”) of Hsinchu, Taiwan. Id. at 34719, as amended, 87 FR 62452-53 (Oct. 14, 2022). The Office of Unfair Import Investigations was not named as a party to this investigation. 87 FR at 34719.

On September 26, 2022, the Commission allowed TTE Technology, Inc. of Corona, California to intervene in this investigation as an additional respondent (collectively, with all named respondents except for Realtek, “TCL”). See Order No. 17 (Aug. 30, 2022), unreviewed by Comm'n Notice (Sept. 26, 2022).

On January 24, 2024, the Commission issued a final determination finding a violation of section 337 by TCL and Realtek with respect to claims 19 and 20 of the '381 patent. 89 FR 5934-35 (Jan. 30, 2024); see Comm'n Opinion (Jan. 24, 2024). The Commission determined that the appropriate remedy is: (i) an LEO against TCL's and Realtek's infringing products and (ii) CDOs against each of the TCL entities, but not against Realtek. 89 FR at 5935. The Commission also set the bond during the period of Presidential review at zero (0) percent of the entered value of the infringing articles. Id.

On March 28, 2024, Realtek filed an appeal from the Commission's final determination with the U.S. Court of Appeals for the Federal Circuit. See Realtek Semiconductor Corp. v. ITC, Appeal Nos. 24-1613. That appeal remains pending.

On April 1, 2024, pursuant to 19 U.S.C. 1337(k) and Commission Rule 210.76(a) (19 CFR 210.76(a)), AMD and TCL (together, “Petitioners”) filed a joint petition (“Original Petition”) to modify the LEO as to TCL and rescind in full the CDOs against TCL based on a settlement agreement between Petitioners. On April 11, 2024, Realtek filed a response to the Original Petition. Realtek states that it “takes no position” on whether the Original Petition should be granted because Petitioners failed to disclose certain information required by Commission Rules 210.76(a)(1) and (a)(3). Realtek also states that, in assessing the Original Petition, the Commission and Realtek would “benefit from” receiving certain additional information from Petitioners.

On April 12, 2024, Petitioners filed a corrected joint petition (“Corrected Petition” or “CPet.”) and a joint motion to limit service to only the Commission and its staff of the confidential versions of the exhibits attached thereto. Attached to the Corrected Petition are redacted copies of a license and settlement agreement between the Petitioners (Ex. D), as well as “two documents referenced therein” (Exs. E and F). CPet. at 4. The unredacted versions of Exhibits D, E, and F correspond to confidential Exhibits G, H, and I, respectively. See id. Petitioners stated that they would file certain unredacted exhibits via a separate cover letter. Id. That same day, AMD filed a separate correspondence to the Secretary requesting confidential treatment of business information contained in Exhibits G and H attached thereto but did not attach Exhibit I to the request. On April 24, 2024, Realtek filed a response to the Corrected Petition and motion for limited service stating that it “takes no position” on whether the Corrected Petition should be granted because Petitioners again failed to disclose certain information required by Commission Rules 210.76(a)(1) and (a)(3). Realtek also stated that Petitioners failed to show good cause to support their request for limited service of the confidential versions of the exhibits attached to the Corrected Petition.

On April 30, 2024, the Commission determined not to institute the requested modification and rescission proceedings due to the Corrected Petition's failure to comply with Commission rules. See Comm'n Notice (May 1, 2024); see 19 CFR 210.76(a)(3). Specifically, the Commission determined that “[w]hile the Corrected Petition cures the lack of the statement of no other agreements that was missing in the Original Petition, the corrected filing and correspondence to the Secretary fail to comply with the requirement that unredacted copies of the settlement documents (and documents referenced therein) be submitted.” Id. The Commission specified that the determination not to institute was without prejudice. Id. The Commission also determined to deny as moot Petitioners' motion for limited service of confidential exhibits G, H, and I. Id.

On May 2, 2024, TCL filed a separate correspondence to the Secretary requesting confidential treatment of business information contained in Exhibit I attached thereto. On May 7, 2024, AMD and TCL filed a second corrected joint petition (“Second Corrected Petition” or “SCPet.”) to modify and rescind the remedial orders as to TCL based on settlement and a joint motion to limit service to only the Commission and its staff of the confidential versions of the exhibits attached thereto. The petition states that there are “no other agreements, written or oral, express or implied between the AMD and TCL [sic] concerning the subject matter of the Investigation” and includes or references the licensing agreements and underlying documents serving as a basis for the settlement, including confidential and redacted versions of such documents. SCPet. at 2-4. The separate submissions of the confidential documents state that there is good cause to limit service because the confidential documents are “not available to the public,” “unauthorized disclosure . . . could cause substantial harm to [TCL's and/or AMD's] competitive position,” and “disclosure could impair the Commission's ability to obtain information necessary to perform its statutory function.” See Letter from AMD's counsel, Michael T. Renaud, to Secretary at 1 (Apr. 12, 2024); Letter from TCL's counsel, Yun Louise Lu, to Secretary at 1 (May 2, 2024).

On May 17, 2024, Realtek filed a response to the Second Corrected Petition and motion to limit service stating that it “takes no position” on whether the Second Corrected Petition should be granted because Petitioners again failed to disclose certain information required by Commission Rules 210.76(a)(1) and (a)(3). Realtek also stated that Petitioners failed to show good cause to support their request for limited service of the confidential versions of the exhibits attached to the Second Corrected Petition.

The Commission, having reviewed the record in this investigation, including Petitioners' Second Corrected Petition and motion for limited service, Realtek's response thereto, as well as AMD's and TCL's separate correspondence to the Secretary requesting confidential treatment of the business information contained in Exhibits G, H, and I, has determined that the Second Corrected Petition satisfies the requirements of Commission Rule 210.76(a)(3), 19 CFR 210.76(a)(3). The Commission has further determined that the conditions justifying the remedial orders against TCL no longer exist, and, therefore, granting the Second Corrected Petition is warranted under section 337(k), 19 U.S.C. 1337(k), and Commission Rule 210.76(a)(3). Accordingly, the Commission has determined to institute modification and rescission proceedings and to modify the LEO to remove reference to TCL and rescind in full the CDOs against TCL based on the settlement agreement between Petitioners. The Commission also finds that Petitioners have shown the requisite good cause under Commission Rule 210.76(a)(3) to grant their motion for limited service of confidential Exhibits G, H, and I. The Commission issues a modified LEO and an order herewith setting forth its determinations.

The modification and rescission proceedings are terminated.

The Commission vote for this determination took place on June 7, 2024.

The authority for the Commission's determination is contained in section 337 of the Tariff Act of 1930, as amended (19 U.S.C. 1337), and in part 210 of the Commission's Rules of Practice and Procedure (19 CFR part 210).

By order of the Commission.
Issued: June 7, 2024.
Lisa Barton,
Secretary to the Commission.

[FR Doc. 2024-12940 Filed 6-12-24; 8:45 am]

BILLING CODE 7020-02-P